DEPARTMENT OF ENERGY

Federal Energy Regulatory Commission

Combined Notice of Filings #1

Take notice that the Commission received the following electric corporate filings:

Docket Numbers: EC19-115-000.

Applicants: Public Service Company of Colorado, SWG Colorado, LLC.

Description: Supplement to July 23, 2019 Joint Application for Authorization under Section 203 of the Federal Power Act of Public Service Company of Colorado, et al.

Filed Date: 9/19/19.

Accession Number: 20190920-0006.

Comments Due: 5 p.m. ET 10/3/19.

Docket Numbers: EC19-141-000.

Applicants: Quitman Solar, LLC.

Description: Application for Authorization Under Section 203 of the Federal Power Act, et al. of Quitman Solar, LLC.

Filed Date: 9/24/19.

Accession Number: 20190924-5104.

Comments Due: 5 p.m. ET 10/15/19.

Take notice that the Commission received the following electric rate filings:

Docket Numbers: ER19-2399-000.

Applicants: Caden Energix Hickory LLC.

Description: Second Supplement to July 15, 2019 Caden Energix Hickory LLC tariff filing.

Filed Date: 9/25/19.

Accession Number: 20190925-5012.

Comments Due: 5 p.m. ET 10/7/19.

Docket Numbers: ER19-2644-000.

Applicants: Whitney Hill Wind Power, LLC.

Description: Supplement to August 20, 2019 Whitney Hill Wind Power, LLC tariff filing.

Filed Date: 9/25/19.

Accession Number: 20190925-5056.

Comments Due: 5 p.m. ET 10/7/19.

Docket Numbers: ER19-2828-001.

Applicants: Ohio Power Company, AEP Ohio Transmission Company, Inc., PJM Interconnection, L.L.C.

Description: Tariff Amendment: Amendment to ILDSA, Service Agreement No. 1336 in Docket No. ER19-2828 to be effective 8/21/2019.

Filed Date: 9/25/19.

Accession Number: 20190925-5048.

Comments Due: 5 p.m. ET 10/16/19.

Docket Numbers: ER19-2859-000.

Applicants: PJM Interconnection, L.L.C.

Description: § 205(d) Rate Filing: Original ISA, SA No. 5473; Queue No. AC1-054 to be effective 8/27/2019.

Filed Date: 9/24/19.

Accession Number: 20190924-5085.

Comments Due: 5 p.m. ET 10/15/19.

Docket Numbers: ER19-2860-000.

Applicants: Pacific Gas and Electric Company.

Description: Tariff Cancellation: Notice of Termination Lathrop EA & PA (SA 258) to be effective 11/24/2019.

Filed Date: 9/25/19.

Accession Number: 20190925-5001.

Comments Due: 5 p.m. ET 10/16/19.

Docket Numbers: ER19-2861-000.

Applicants: Arizona Public Service Company.

Description: § 205(d) Rate Filing: Rate Schedule No. 217, Exhibit B to be effective 11/27/2019.

Filed Date: 9/25/19.

Accession Number: 20190925-5002.

Comments Due: 5 p.m. ET 10/16/19.

Docket Numbers: ER19-2862-000.

Applicants: Midcontinent Independent System Operator, Inc.

Description: § 205(d) Rate Filing: 2019-09-25_Termination of SA 3020 OTP-OTP (J510) to be effective 9/26/2019.

Filed Date: 9/25/19.

Accession Number: 20190925-5047.

Comments Due: 5 p.m. ET 10/16/19.

Docket Numbers: ER19-2863-000.

Applicants: PJM Interconnection, L.L.C.

Description: § 205(d) Rate Filing: Notice of Cancellation of ICSA, SA No. 4950; Queue No. AB2-089 to be effective 7/24/2019.

Filed Date: 9/25/19.

Accession Number: 20190925-5076.

Comments Due: 5 p.m. ET 10/16/19.

Take notice that the Commission received the following electric securities filings:

Docket Numbers: ES19-59-000.

Applicants: Interstate Power and Light Company.

Description: Application under Section 204 of the Federal Power Act for Authorization to Issue Securities, et al. of Interstate Power and Light Company.

Filed Date: 9/25/19.

Accession Number: 20190925-5077.

Comments Due: 5 p.m. ET 10/16/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 25, 2019.
Nathaniel J. Davis, Sr.,
Deputy Secretary.

[FR Doc. 2019-21331 Filed 9-30-19; 8:45 am]

BILLING CODE 6717-01-P